INTERNATIONAL TRADE COMMISSION

[Investigations Nos. 731-TA-825-826 (Final)]

Certain Polyester Staple Fiber From Korea And Taiwan

AGENCY: United States International Trade Commission.

ACTION: Revised schedule for the subject investigations.

EFFECTIVE DATE: April 5, 2000.

FOR FURTHER INFORMATION CONTACT: Jozlyn Kalchthaler (202-205-3457), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On March 30, 2000, the Department of Commerce notified the Commission of its final determinations. The Commission must make its final determinations in antidumping investigations within 45 days after notification of Commerce's final determinations, or in this case by May 15, 2000. The Commission is revising its schedule to conform with this statutory deadline.

The Commission's new schedule for the investigations is as follows: the Commission will make its final release of information on April 28, 2000; and final party comments are due on May 2, 2000.

For further information concerning these investigations see the Commission's Rules of Practice and Procedure, part 201, subparts A through E (19 CFR part 201), and part 207, subparts A and C (19 CFR part 207).

Authority: These investigations are being conducted under authority of title VII of the Tariff Act of 1930; this notice is published pursuant to section 207.21 of the Commission's rule.

By order of the Commission.
Issued: April 5, 2000.
Donna R. Koehnke,
Secretary.

[FR Doc. 00-9114 Filed 4-11-00; 8:45 am]

BILLING CODE 7020-02-P